Proclamation 7709 of September 25, 2003

Gold Star Mother's Day, 2003

By the President of the United States of America

A Proclamation

As members of America's Armed Forces now protect our country by engaging the enemies of freedom in Iraq, in Afghanistan, and on other fronts in the war against terrorism, they carry on a noble legacy. Today, Americans and millions around the world enjoy freedom because of the service and sacrifice of our military men and women.

The cost of America's freedom is often personal. Few pay more dearly than our Gold Star Mothers, who have endured the death of a son or daughter in service to our country.

More than 75 years ago, one mother's determination to transform her personal loss into good works led to the creation of the American Gold Star Mothers. After receiving notice of her son's death in aerial combat during World War I, Grace Darling Seibold devoted her energy to volunteering in a local hospital. She began reaching out to other mothers whose sons had died in military service to the Nation. She organized a group of these special mothers to help them comfort each other and care for hospitalized veterans. Their organization was named after the gold star service flag that families hung in their windows in honor of family members who had died in military service. After years of planning, it became a national organization in 1928. Since then, brave women have continued to come together as Gold Star Mothers to ease the burden of their loss and to serve others.

Today, numerous chapters of Gold Star Mothers across our Nation offer important programs and services to enhance the lives of veterans and provide support for their families. Their civic education programs and help for those in need honor the lives of their sons and daughters and strengthen America.

The Congress, by Senate Joint Resolution 115 of June 23, 1936 (49 Stat. 1895 as amended), has designated the last Sunday in September as “Gold Star Mother's Day,” and has authorized and requested the President to issue a proclamation in observance of this day.

NOW, THEREFORE, I, GEORGE W. BUSH, President of the United States of America, do hereby proclaim Sunday, September 28, 2003, as Gold Star Mother's Day. I call upon all Government officials to display the flag of the United States over Government buildings on this solemn day. I also encourage the American people to display the flag and hold appropriate meetings in their homes, places of worship, or other suitable places as a public expression of the sympathy and respect that our Nation holds for our Gold Star Mothers.

IN WITNESS WHEREOF, I have hereunto set my hand this twenty-fifth day of September, in the year of our Lord two thousand three, and of the Independence of the United States of America the two hundred and twenty-eighth.

B

[FR Doc. 03-24918

Filed 9-29-03; 8:45 am]

Billing code 3195-01-P